DEPARTMENT OF TRANSPORTATION

Pipeline and Hazardous Materials Safety Administration

Delayed Applications

AGENCY: Office of Hazardous Materials Safety, Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application

M—Modification request

R—Renewal Request

P—Party To Exemption Request

Issued in Washington, DC, on February 3, 2015.
Donald Burger,
Chief, General Approvals and Permits.

Applicaton No. | Applicant | Reason for delay | Estimated date of completion
Modification to Special Permits
15642-M | Praxair Distribution, Inc., Danbury, CT | 4 | 02-28-2015
11903-M | Comptank Corporation, Bothwell, ON | 4 | 03-31-2015
8451-M | Special Devices, Inc., Mesa, AR | 4 | 03-31-2015
15552-M | Poly-Coat Systems, Inc., Liverpool, TX | 4 | 03-15-2015
12116-M | Proserv UK Ltd, East Tullos Aberdeen | 4 | 02-28-2015
New Special Permit Applications
15767-N | Union Pacific Railroad Company, Omaha, NE | 1 | 02-28-2015
16001-N | VELTEK, Malvern, PA | 4 | 03-31-2015
16061-N | Battery Solutions, LLC, Howell, MI | 4 | 02-28-2015
16154-N | Patriot Fireworks, LLC, Ann Arbor, MI | 4 | 03-31-2015
16189-N | Coffeyville Resources Nitrogen Fertilizers, LLC, Kansas City, KS | 4 | 02-28-2015
16190-N | Digital Wave Corporation, Centennial, CO | 4 | 02-28-2015
16217-N | Fuji Electric Co., Ltd., Shinagawa-ku, To | 4 | 04-30-2015
16198-N | Fleischmann's Vinegar Company, Inc., Cerritos, CA | 4 | 02-28-2015
16181-N | Arc Process, Inc., Pflugerville, TX | 4 | 03-31-2015
16212-N | Entegris, Inc., Billerica, MA | 4 | 04-30-2015
16220-N | Americase, Waxahache, TX | 4 | 02-28-2015
16193-N | CH&I Technologies, Inc., Santa Paula, CA | 4 | 03-31-2015
16199-N | Rosharon Testing and Subsea Center, A Division of Schlumberger Technology Corporation, Rosharon, TX | 4 | 02-28-2015
15991-N | Dockweiler, Neustadt-Glewe, Germany | 4 | 03-31-2015
Renewal Special Permits Applications
11602-R | East Tennessee Iron & Metal, Inc., Rogersville, TN | 4 | 03-31-2015
11860-R | GATX Corporation, Chicago, IL | 4 | 02-28-2015

[FR Doc. 2015-02986 Filed 2-18-15; 8:45 am]

BILLING CODE 4910-60-M